DEPARTMENT OF ENERGY

Federal Energy Regulatory Commission

[Docket No. CP08-458-000]

UGI LNG, Inc.; Notice of Filing

August 21, 2008.

Take notice that on August 8, 2008, UGI LNG, Inc. (UGI LNG) filed an abbreviated application, pursuant to section 7(c) of the Natural Gas Act (NGA) and Part 157 of the Commission's Rules and Regulations, for an amendment of its certificate issued April 19, 2007 in Docket No. CP06-442-000. UGI LNG requests authorization to construct, own, and operate a new liquefied natural gas (LNG) storage tank and appurtenant vaporization and sendout equipment at its existing LNG peak-shaving facility located near the town of Temple in Ontelaunee Township, Berks County, Pennsylvania (the Temple Facility). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The April 19, 2007, certificate authorized UGI LNG to acquire, own, and operate the Temple Facility including a 250,000 Mcf storage tank, a vaporization system designed to deliver up to 55,200 Dth/d, a liquefier designed to deliver 4,000 Dth/d, and approximately 5,000 feet of 8 inch pipeline connecting the Temple Facility to Texas Eastern's system. UGI LNG requests authorization to amend its certificate permitting UGI LNG to expand the Temple Facility by constructing, owning, and operating an additional 1,000 MMcf storage tank and 150,000 Dth/d vaporization and sendout system along with associated boil-off handling equipment. UGI LNG requests continuing authority to charge market-based rates for its firm storage and interruptible services.

Any questions regarding the application are to be directed to Frank H. Markle, Senior Counsel, UGI Corporation, Box 858, Valley Forge, PA 19482, (610) 768-3625 or marklef@ugicorp.com.

On October 18, 2007, the Commission staff granted UGI LNG's request to use the National Environmental Policy Act (NEPA) Pre-Filing Process and assigned Docket No. PF07-16-000 to staff activities involving the amended Temple Facility project. Now, as of the filing of this application on August 8, 2008, the NEPA Pre-Filing Process for this project has ended. From this time forward, this proceeding will be conducted in Docket No. CP08-458-000, as noted in the caption of this Notice.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA(18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF07-16-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

Motions to intervene, protests and comments may be filed electronically via the Internet in lieu of paper, see, 18 CFR 385.2001 (a)(1)(iii) and the instructions on the Commission's Web site under the “e-Filing” link. The Commission strongly encourages electronic filings.

Comment Date: September 11, 2008.

Kimberly D. Bose,
Secretary.

[FR Doc. E8-19924 Filed 8-27-08; 8:45 am]

BILLING CODE 6717-01-P